DEPARTMENT OF HEALTH AND HUMAN SERVICES

Food and Drug Administration

[Docket No. FDA-2011-N-0494]

Agency Information Collection Activities; Submission for Office of Management and Budget Review; Comment Request; Data To Support Communications To Educate Consumers on How To Safely Purchase Drugs Online

AGENCY: Food and Drug Administration, HHS.

ACTION: Notice.

SUMMARY: The Food and Drug Administration (FDA) is announcing that a proposed collection of information has been submitted to the Office of Management and Budget (OMB) for review and clearance under the Paperwork Reduction Act of 1995.

DATES: Fax written comments on the collection of information by November 18, 2011.

ADDRESSES: To ensure that comments on the information collection are received, OMB recommends that written comments be faxed to the Office of Information and Regulatory Affairs, OMB, Attn: FDA Desk Officer, Fax: 202-395-7285, or e-mailed to oira_submission@omb.eop.gov. All comments should be identified with the OMB control number 0910-NEW and title “Data to Support Communications to Educate Consumers on How to Safely Purchase Drugs Online.” Also include the FDA docket number found in brackets in the heading of this document.

FOR FURTHER INFORMATION CONTACT: Juanmanuel Vilela, Office of Information Management, Food and Drug Administration, 1350 Piccard Dr., PI50-400B, Rockville, MD 20850, 301-796-7651, Juanmanuel.vilela@fda.hhs.gov.

SUPPLEMENTARY INFORMATION: In compliance with 44 U.S.C. 3507, FDA has submitted the following proposed collection of information to OMB for review and clearance.

Data To Support Communications To Educate Consumers on How To Safely Purchase Drugs Online—(OMB Control Number 0910-NEW)

FDA has planned an integrated public outreach campaign to improve the safe use of online pharmacies for drug purchases. In order to effectively evaluate this campaign, FDA must understand individuals' knowledge, attitudes, and practices with regard to online pharmacies both at the start of the campaign and on an ongoing basis. This will enable FDA to gauge progress toward educating the public on safely purchasing from online pharmacies. An online survey panel will be employed to collect this information, which serves the need for direct and quantitative measurement of our target population, and which, as a quantitative research tool has some major benefits:

• To focus on our target population of adults who use the Internet.

• To collect data quickly and efficiently with minimal cost to the government.

• To reduce burden to the public by providing a means to complete the survey at a time and place of their choosing.

FDA will use online data collection to establish a baseline and evaluate the success of its messages and distribution methods for its outreach campaign, which educates consumers about how to safely purchase drugs online. Additionally, FDA will use this method to help tailor messages and communications vehicles to have both a more powerful and desired impact on target audiences. The data will not be used for the purposes of making policy or regulatory decisions.

In the Federal Register of July 12, 2011 (76 FR 40920), FDA published a 60-day notice requesting public comment on the proposed collection of information. FDA received no comments.

FDA estimates the burden of this collection of information as follows:

Table 1—Estimated Annual Reporting Burden ¹
Activity | Number of respondents | Number of responses per respondent | Total annual responses | Average burden per response | Total hours
Survey Study | 5,000 | 1 | 5,000 | .33 (20 min.) | 1,650
¹ There are no capital costs or operating and maintenance costs associated with this collection of information.

Annually, FDA projects one survey study. FDA is requesting this data collection burden so as not to restrict the Agency's ability to gather information on public sentiment for its proposals in its regulatory and communications programs.

Dated: October 14, 2011.
Leslie Kux,
Acting Assistant Commissioner for Policy.

[FR Doc. 2011-27019 Filed 10-18-11; 8:45 am]

BILLING CODE 4160-01-P